DEPARTMENT OF THE INTERIOR

Bureau of Land Management

[CA-338-1220-AF]

Supplementary Rules: King Range National Conservation Area, Humboldt and Mendocino Counties, CA

AGENCY: Bureau of Land Management, Interior.

ACTION: Establishment of emergency final supplementary rules.

SUMMARY: The Arcata Field Office is establishing the following emergency final supplementary rules for the King Range National Conservation Area (KRNCA) as provided for under the Visitor Services regulations of the Bureau of Land Management (BLM). The supplementary rules require all backcountry overnight users camping on BLM-administered public lands within the boundaries of the KRNCA to carry and use hard-sided bear-proof food storage canisters. The supplementary rules are necessary to protect the safety, health, and welfare of persons, property, and wildlife.

EFFECTIVE DATE: May 2, 2003.

ADDRESSES: You may send inquiries or suggestions to Field Office Manager, Bureau of Land Management, Arcata Field Office, 1695 Heindon Rd., Arcata, CA 95521.

FOR FURTHER INFORMATION CONTACT: Lynda J. Roush, (707) 825-2300.

SUPPLEMENTARY INFORMATION:

I. Background

The emergency final supplementary rules are authorized by 43 CFR 8365.1-6: “The State Director may establish such supplementary rules as he/she deems necessary. These rules may provide for the protection of persons, property, and public lands and resources.”

The purpose of these emergency final supplementary rules is to prevent—

• Injury to backcountry users,

• Damage to their property,

• Additional bears learning to associate humans with food, and

• The need for destruction of “problem bears.”

The reason that the supplemental rules are being published on an emergency final basis is the high risk of human injury if steps are not implemented immediately to remedy the problem. For this reason, we find good cause under the Administrative Procedure Act (5 U.S.C. 553 et seq.) for publishing and promulgating these supplementary rules without soliciting public comment, and making them effective the date of publication.

BLM staff and visitors camping in the KRNCA backcountry are experiencing increasingly frequent incidents of black bears entering occupied campsites and tents in search of food, stealing backpacks and damaging equipment, and presenting an increasing risk of injury to humans. Bear/human interactions in the KRNCA have been steadily increasing for the past several years, despite active public education efforts and the implementation of a voluntary, low-cost bear-proof backpacking food storage canister rental program in 2000. These incidents have increased significantly in frequency and intensity in the spring of 2002 to the point where the possibility of injuries to humans will become high without BLM taking immediate steps to change bear behavior. Bear/human contacts have been most common in the central portion of the Lost Coast Trail (LCT), although bear/human contacts are being documented at other locations in the KRNCA as well. Backpacks and equipment have been damaged, destroyed, and/or stolen, and at least 3 incidents of bears ripping into human-occupied tents have been reported. Hanging food from trees is no longer an effective method for bear-proof food storage, as bears have become very adept at climbing trees and removing the stored food. Most backpackers without proper food storage canisters have lost their food.

Unprotected food also attracts raccoons, skunks, rodents, and other wildlife, which become nuisances and whose own health can be compromised if they become accustomed to human food.

The King Range National Conservation Area, particularly along the Lost Coast, is receiving steadily increasing visitation. Experience with black bears in similar backcountry areas indicate that close human/bear contacts are likely to increase, with the risk of injuries to humans imminent unless proper steps are taken to reverse the situation. A review of the bear-management practices of Department of the Interior facilities (Yosemite, Kings Canyon, and Sequoia National Parks) and the U.S. Forest Service with similar bear/human management problems, and consultation with the California Department of Fish and Game indicates that the consistent use of hard-sided bear-proof food storage canisters is the most reliable method to keep bears from associating humans and their equipment as a source of food. Field experience at other sites has demonstrated that a key feature of an effective bear management program is the mandatory backcountry use of bear-proof food storage canisters, with as close to 100 percent compliance as possible. Implementation of the supplementary rules will require mandatory use of hard-sided bear-proof food storage canisters in all backcountry locations within the KRNCA.

II. Discussion of the Emergency Final Supplementary Rules

The canisters required by the supplementary rules must be of sufficient size to permit storage of all food, toiletries, sunscreen, surfboard wax, insect repellant and other scented items for the duration of the trip. Each person must posses a minimum of one canister, and must use the canister to store the above types of items, plus any food scraps and scented trash items such as empty cans, energy/candy wrappers, surf wax wrappers, etc. For the purposes of this rule, a “backcountry” location is defined as any place outside of a developed campground where food and other scented items cannot be stored inside a locked vehicle. Also, “hard sided” means the container is made of rigid material and is of a size and shape that bears cannot grasp by the mouth or paws, or otherwise carry for any significant distance. The container must also have a closing and latching lid that is tested and proven effective against bears. Stock users must use either portable bear canisters or bear-proof panniers of sufficient size to store materials for all party members for the duration of the trip. These emergency final supplementary rules do not apply to overnight use within designated campgrounds or camping near vehicles where food can be stored and locked inside vehicles.

The requirement for one canister per person minimum is based on experience and observations that show the sharing of canisters by multiple visitors does not provide enough storage space for food, toiletries, and all other items with odors. Consequently, some items are left out of the canisters and the program becomes ineffective. Public compliance with this rule will break the association of humans with an easy food source by black bears. Strict compliance with this requirement is essential, as each successful food acquisition by bears from human sources is a strong positive reinforcement of undesirable black bear behavior.

With the implementation of the emergency final supplementary rules, BLM will take actions to make compliance for visitors as easy as possible. For visitors who do not want to purchase their own canisters (canisters are widely available for sale at outdoor stores in California), an existing canister rental program through local merchants in Petrolia and Shelter Cove will be expanded to include new locations at the BLM King Range Project Office, and the Arcata Field Office. Implementation will also include an extensive public education component to encourage compliance, utilizing a variety of local and regional media. The emergency final supplementary rules do not apply to camping within designated campgrounds or camping near vehicles where food can be stored inside locked vehicles.

III. Procedural matters

Executive Order 12866, Regulatory Planning and Review

These emergency final supplementary rules do not constitute a significant regulatory action and are not subject to review by the Office of Management and Budget under Executive Order 12866. These supplementary rules will not have an effect of $100 million or more on the economy. They will not affect commercial activity, except to the extent that they promote the sale or rental of bear-proof canisters, but contain rules of conduct for overnight public use of backcountry recreational areas within the KRNCA. They will not adversely affect, in a material way, the economy, productivity, competition, jobs, the environment, public health or safety, or State, local, or tribal governments or communities. These emergency final supplementary rules will not create a serious inconsistency or otherwise interfere with an action taken or planned by another agency. The emergency final supplementary rules do not alter the budgetary effects of entitlements, grants, user fees, or loan programs or the right or obligations of their recipients; nor do they raise novel legal or policy issues.

National Environmental Policy Act

BLM has prepared an environmental assessment (EA) and has found that the emergency final supplementary rules do not constitute a major Federal action significantly affecting the quality of the human environment under section 102(2)(C) of the Environmental Protection Act of 1969 (NEPA), 42 U.S.C. 4332(2)(C). The supplementary rules merely contain rules of conduct for certain recreational lands in California. These rules are designed to protect public health and safety as well as the health and welfare of endemic wildlife. A detailed statement under NEPA is not required. BLM has placed the EA and the Finding of No Significant Impact on file in the BLM Administrative Record at the address specified in the ADDRESSES section. BLM invites the public to review these documents.

Regulatory Flexibility Act

Congress enacted the Regulatory Flexibility Act of 1980, as amended, 5 U.S.C. 601-612, to ensure that Government regulations do not unnecessarily or disproportionately burden small entities. The RFA requires a regulatory flexibility analysis if a rule would have a significant economic impact, either detrimental or beneficial, on a substantial number of small entities. The emergency final supplementary rules do not pertain specifically to commercial or governmental entities of any size, but to public recreational use of specific public lands, although the rules will tend to promote sales of certain equipment to campers and backpackers, including sales from small business entities. Therefore, BLM has determined under the RFA that this emergency final supplementary rules would not have a significant economic impact on a substantial number of small entities.

Small Business Regulatory Enforcement Fairness Act (SBREFA)

These emergency final supplementary rules do not constitute a “major rule” as defined at 5 U.S.C. 804(2). Again, the emergency final supplementary rules merely contain rules of conduct for recreational use of certain public lands. The emergency final supplementary rules have negligible effect on business commercial or industrial use of the public lands. Commercial recreation outfitters, operating under Special Recreation Permit stipulations, are required to provide (or rent currently for $5/canister/trip) bear-proof canisters for commercial backcountry trips to the King Range. BLM currently provides local small businesses bear-proof canisters to rent, and they keep the $5/trip rental charge as cost for handling the canisters and administering the program.

Unfunded Mandates Reform Act

These emergency final supplementary rules do not impose an unfunded mandate on State, local, or tribal governments or the private sector of more than $100 million per year; nor do the supplementary rules have a significant or unique effect on State, local, or tribal governments or the private sector. The supplementary rules do not require anything of State, local, or tribal governments. Therefore, BLM is not required to prepare a statement containing the information required by the Unfunded Mandates Reform Act (2 U.S.C. 1531 et seq.).

Executive Order 12630, Governmental Actions and Interference With Constitutionally Protected Property Rights (Takings)

The emergency final supplementary rules do not represent a government action capable of interfering with constitutionally protected property rights. The emergency final supplementary rules do not address property rights in any form, and do not cause the impairment of any persons' property rights. Therefore, the Department of the Interior has determined that the emergency final supplementary rules will not cause a taking of private property or require further discussion of takings implications under this Executive Order.

Executive Order 13132, Federalism

The emergency final supplementary rules will not have a substantial direct effect on the States, on the relationship between the national government and the States, or on the distribution of power and responsibilities among the various levels of government. The supplementary rules affect land in only one State, California, and do not address jurisdictional issues involving the California State government. Therefore, in accordance with Executive Order 13132, BLM has determined that these emergency final supplementary rules do not have sufficient federalism implications to warrant preparation of a federalism assessment.

Executive Order 12988, Civil Justice Reform

Under Executive Order 12988, BLM has determined that these emergency final supplementary rules will not unduly burden the judicial system and that they meet the requirements of sections 3(a) and 3(b)(2) of the Executive Order.

Paperwork Reduction Act

These emergency final supplementary rules do not contain information collection requirements that the Office of Management and Budget must approve under the Paperwork Reduction Act, 44 U.S.C. 3501 et seq.

Author

The principal author of these emergency final supplementary rules is Scott Adams, Outdoor Recreation Planner, of the King Range Project Office within the Arcata Field Office, Bureau of Land Management, Department of the Interior.

For the reasons stated in the Preamble, and under the authority of 43 CFR part 8360, section 8365.1-6, the Arcata Field Office Manager establishes emergency final supplementary rules to read as follows:

Dated: June 14, 2002.
J. Anthony Danna,
Deputy State Director, Natural Resources.

Editorial note: This document was received at the Office of the Federal Register, April 25, 2003.

Emergency final supplementary rules for the King Range National Conservation Area, requiring the mandatory use of hard-sided, bear-proof storage canisters by backcountry overnight visitors.

Sec. 1 Rules of Conduct

a.1. All backcountry overnight users camping on BLM-administered public lands within the boundaries of the King Range National Conservation Area must carry and use hard-sided, bear-proof food storage canisters.

2. The canisters must be of sufficient size to permit storage of all food, toiletries, sunscreen, surfboard wax, insect repellant and other scented items for the duration of the trip.

b. Each person must posses a minimum of one canister, and must use the canister to store the types of items listed in paragraph a.2. of this section, plus any food scraps and scented trash items such as empty cans, energy/candy wrappers, surf wax wrappers, etc.

c. Stock users must use either portable bear canisters or bear proof panniers of sufficient size to store materials for all party members.

Sec. 2 Definitions

For the purposes of these supplementary rules—

Backcountry location means any place outside of a developed campground where food and other scented items cannot be stored inside a locked vehicle.

Hard-sided means made of rigid material and of a size and shape that bears cannot grasp by the mouth or paws, or otherwise carry for a significant distance, and having a closing and latching lid that is tested and proven effective against bears.

Sec. 3 Prohibited Acts

a. You must not camp in the backcountry on BLM-administered public lands without using a hard-sided, bear-proof food storage canister or pannier sufficient for the storage of all food, toiletries, food scraps and trash, and all other scented items, for the duration of your backcountry trip.

b. You must not substitute for the use of bear canisters by hanging food, trash, and other scented items from tree limbs, by burying these items, or by using any other technique in place of using the prescribed portable bear-proof storage canisters.

Sec. 4 Exception

These supplementary rules do not apply to overnight use within designated campgrounds or near vehicles where food is stored and locked inside.

Sec. 5 Penalties

Under the Federal Land Policy and Management Act of 1976 (43 U.S.C. 1733(a)), if you knowingly and willfully violate or fail to comply with the emergency final supplementary rules provided in this notice, you may be subject to a fine under 18 U.S.C. 3571 or other penalties in accordance with 43 U.S.C. 1733.

[FR Doc. 03-10720 Filed 5-1-03; 8:45 am]

BILLING CODE 4310-40-P